DEPARTMENT OF HOUSING AND URBAN DEVELOPMENT

[Docket No. FR-5375-N-28]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Veronica Rines, Department of the Army, Office of the Assistant Chief of Staff for Installation Management, DAIM-ZS, Room 8536, 2511 Jefferson Davis Hwy, Arlington, VA 22202; (703) 601-2545; COE: Mr. Scott Whiteford, Army Corps of Engineers, Real Estate, CEMP-CR, 441 G Street, NW., Washington, DC 20314; (202) 761-5542; Coast Guard: Commandant, United States Coast Guard, Attn: Jennifer Stomber, 2100 Second St., SW., Stop 7901, Washington, DC 20593-0001; (202) 475-5609; Energy: Mr. Mark Price, Department of Energy, Office of Engineering & Construction Management, MA-50, 1000 Independence Ave., SW., Washington, DC 20585; (202) 586-5422; GSA: Mr. Gordon Creed, Acting Deputy Assistant Commissioner, General Services Administration, Office of Property Disposal, 18th & F Streets, NW., Washington, DC 20405; (202) 501-0084; Navy: Mr. Albert Johnson, Department of the Navy, Asset Management Division, Naval Facilities Engineering Command, Washington Navy Yard, 1330 Patterson Ave., SW., Suite 1000, Washington, DC 20374; (202) 685-9305; (These are not toll-free numbers).

Dated: July 15, 2010.
Mark R. Johnston,
Deputy Assistant Secretary for Special Needs.

Title V, Federal Surplus Property Program Federal Register Report for 07/23/2010

UNSUITABLE PROPERTIES

BUILDING

Arkansas

Property 44333, 64120, 44653

Little Rock District

DeQueen AR 71832

Landholding Agency: COE

Property Number: 31201020009

Status: Excess

Reasons: Extensive deterioration

California

Bldgs. 440, 441, 442

Coast Guard Training Center

Petaluma CA 94952

Landholding Agency: Coast Guard

Property Number: 88201030001

Status: Excess

Reasons: Secured Area

Delaware

J. Allen Frear Federal Bldg.

300 South New Street

Dover DE 19904

Landholding Agency: GSA

Property Number: 54201030005

Status: Excess

GSA Number: 4-G-DE-0470

Reasons: Within 2,000 ft. of flammable or explosive material

Georgia

HAR-16465, 16179

Hartwell Lake & Dam

Hartwell GA 30643

Landholding Agency: COE

Property Number: 31201020010

Status: Unutilized

Reasons: Extensive deterioration

RBR-16227, RBR-18650

Richard B. Russell Lake & Dam

Elberton GA 30635

Landholding Agency: COE

Property Number: 31201020011

Status: Unutilized

Reasons: Extensive deterioration

New Mexico

10 Bldgs.

Los Alamos National Lab

Los Alamos NM 87545

Landholding Agency: Energy

Property Number: 41201020015

Status: Unutilized

Directions: 22-0007, 22-0009, 22-0010, 22-0011, 22-0012, 22-0014, 22-0015, 22-0016, 22-0017, 22-0019

Reasons: Secured Area

7 Bldgs.

Los Alamos National Lab

Los Alamos NM 87545

Landholding Agency: Energy

Property Number: 41201020016

Status: Unutilized

Directions: 22-0021, 22-0022, 22-0023, 22-0024, 22-0032, 22-0035, 22-0069

Reasons: Secured Area

Oklahoma

31 Bldgs.

Eufaula Lake

Stigler OK 74462

Landholding Agency: COE

Property Number: 31201020012

Status: Unutilized

Reasons: Extensive deterioration

Virginia

Bldgs. S0001, S0002

Defense Supply Center

Richmond VA

Landholding Agency: Army

Property Number: 21201020035

Status: Unutilized

Reasons: Secured Area

9 Bldgs.

Defense Supply Center

Richmond VA

Landholding Agency: Army

Property Number: 21201020036

Status: Unutilized

Directions: 61, 62, 63, 64, 67, 77, 78, 94, 95

Reasons: Secured Area

JHK-18213

John H. Kerr Lake & Dam

Mecklenburg VA 23917

Landholding Agency: COE

Property Number: 31201020013

Status: Unutilized

Reasons: Extensive deterioration

Washington

Bldg. 312

Naval Air Station

Oak Harbor WA 98278

Landholding Agency: Navy

Property Number: 77201030001

Status: Excess

Reasons: Extensive deterioration

Land

Washington

900 sq. ft. land

Naval Base

Bremerton WA

Landholding Agency: Navy

Property Number: 77201020023

Status: Underutilized

Reasons: Secured Area

[FR Doc. 2010-17727 Filed 7-22-10; 8:45 am]

BILLING CODE 4210-67-P